ENVIRONMENTAL PROTECTION AGENCY

40 CFR Parts 260 and 261

[EPA-HQ-RCRA-2009-0315; FRL-8926-4 ]

RIN 2050-AG31

Definition of Solid Waste Public Meeting; Extension of Comment Period

AGENCY: Environmental Protection Agency (EPA).

ACTION: Notice of Public Meeting and Request for Comments; Extension of comment period.

SUMMARY: EPA is announcing an extension to the comment period for the public meeting notice published in the Federal Register on May 27, 2009 regarding the Agency's recent regulation on the definition of solid waste under Subtitle C of the Resource Conservation and Recovery Act (RCRA). The comment period is being extended 30 days to August 13, 2009. EPA is currently reviewing a petition filed with the Administrator under RCRA section 7004(a) requesting that the Agency reconsider and repeal the recently promulgated revisions to the definition of solid waste for hazardous secondary materials being reclaimed, and is soliciting comments and information to assist the agency in evaluating the petition.

DATES: Persons may submit written or electronic comments by August 13, 2009. The administrative record of the meeting will remain open for submissions until August 13, 2009.

ADDRESSES: Written comments. Submit your written comments, identified by Docket ID No. EPA-HQ-RCRA 2009-0315 by one of the following methods:

• http://www.regulations.gov: Follow the online instructions for submitting comments.

• E-mail: Comments may be sent by electronic mail (e-mail) to RCRA-docket@epa.gov, Attention Docket ID No. EPA-HQ-RCRA-2009-0315.

• Fax: Fax comments to: 202-566-9744, Attention Docket ID No. EPA-HQ-RCRA 2009-0315

• Mail: Send comments to: OSWER Docket, EPA Docket Center, Mail Code 2822-T, Environmental Protection Agency, 1200 Pennsylvania Avenue, NW., Washington D.C. 20460, Attention Docket ID No. EPA-HQ-RCRA-2009-0315.

Instructions: EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or e-mail. The http://www.regulations.gov Web site is an “anonymous access” system, which means EPA will not know your identity or contact information unless you provide it in the body of your comment. If you send an e-mail comment directly to EPA without going through http://www.regulations.gov, your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the http://www.regulations.gov index. Although listed in the index, some information is not publicly available, such as CBI or other information whose disclosure is restricted by statute. Certain other material, such as copyrighted material, will be publicly available only in hard copy. Publicly available docket materials are available either electronically in http://www.regulations.gov or in hard copy at the OSWER Docket, EPA/DC, EPA West, Room 3334, 1301 Constitution Ave., NW., Washington DC. The Public Reading Room is open from 8:30 a.m. to 4:30 p.m. Monday through Friday, excluding legal holidays. The telephone number for the Public Reading Room is (202) 566-1744, and the telephone number for the OSWER Docket is 202-566-0270.

FOR FURTHER INFORMATION CONTACT: For more detailed information on the definition of solid waste regulations, contact Tracy Atagi, Office of Resource Conservation and Recovery, Materials Recovery and Waste Management Division, MC 5304P, Environmental Protection Agency, 1200 Pennsylvania Ave., NW., Washington DC 20460, at (703) 308-8672 (atagi.tracy@epa.gov). For information on specific aspects of the public meeting, contact Amanda Geldard, Office of Resource Conservation and Recovery, Materials Recovery and Waste Management Division, MC 5304P, Environmental Protection Agency, 1200 Pennsylvania Ave., NW., Washington DC 20460, at (703) 347-8975, (geldard.amanda@epa.gov).

Dated: June 29, 2009.
Matt Hale,
Director, Office of Resource Conservation and Recovery.

[FR Doc. E9-15807 Filed 7-2-09; 8:45 am]

BILLING CODE 6560-50-P